DEPARTMENT OF VETERANS AFFAIRS

Funding Opportunity Under Supportive Services for Veteran Families Program

AGENCY: Department of Veterans Affairs.

ACTION: Notice of funding availability.

SUMMARY: The Department of Veterans Affairs (VA) is announcing the availability of funds for supportive services grants under the Supportive Services for Veteran Families (SSVF) Program. This Notice of Funding Availability (NOFA) contains information concerning the SSVF Program, the grant application processes and the amount of funding available. Awards made for supportive services grants will fund operations beginning August 19, 2022, for a non-renewable period ending September 30, 2026.

DATES: Applications for supportive services grants under the SSVF Program must be received by the SSVF Program Office by 4:00 p.m. Eastern Standard Time (EST), July 22, 2022. In the interest of fairness to all eligible applicants, as described in this NOFA, this deadline is firm as to date and hour, and VA will treat as ineligible for consideration any application that is received after the deadline. Applicants should take this practice into account and make early submission of their materials to avoid any risk of loss of eligibility brought about by unanticipated delays, computer service outages or other submission-related problems.

ADDRESSES: For a Copy of the Application Package: Copies of the application can be downloaded from the SSVF website at: www.va.gov/homeless/ssvf. Questions should be referred to the SSVF Program Office via email at: SSVF@va.gov. For detailed SSVF Program information and requirements, see 38 CFR part 62.

Submission of Application Package: Applicants must submit applications electronically following instructions found at: www.va.gov/homeless/ssvf. Applications may not be mailed, hand carried or sent by facsimile. Applications must be received in the SSVF Program Office by 4:00 p.m. (EST) on the application deadline date. Applications must arrive as a complete package. Materials arriving separately will not be included in the application package for consideration and may result in the application being rejected. See II.D. of this NOFA for maximum allowable grant amounts.

Technical Assistance: Information regarding how to obtain technical assistance with the preparing a renewal supportive services grant application is available on the SSVF Program website at: www.va.gov/HOMELESS/SSVF.

FOR FURTHER INFORMATION CONTACT: Mr. John Kuhn, National Director, Supportive Services for Veteran Families at SSVF@va.gov.

SUPPLEMENTARY INFORMATION:

Funding Opportunity Title: Supportive Services for Veteran Families Program.

Announcement Type: Initial.

Funding Opportunity Number: VA-SSVF-071022.

Catalog of Federal Domestic Assistance Number: 64.033, VA Supportive Services for Veteran Families Program.

I. Funding Opportunity Description

A. Purpose: SSVF Program's purpose is to provide supportive services grants to private non-profit organizations and consumer cooperatives who will coordinate or provide supportive services to very low-income veteran families who (i) are residing in permanent housing and at risk of becoming homeless; (ii) are homeless and scheduled to become residents of permanent housing within a specified time period; or (iii) after exiting permanent housing within a specified time period, are seeking other housing that is responsive to such very low-income veteran family's needs and preferences.

SSVF prioritizes the delivery of rapid re-housing services to homeless veteran households. Rapid re-housing is an intervention designed to help individuals and families quickly exit homelessness, return to housing in the community and avoid homelessness again in the near term. The core components of a rapid re-housing program are housing identification, move-in and rent financial assistance and rapid re-housing case management and services. These core components represent the minimum that a program must be providing to households to be considered a rapid re-housing program, but do not provide guidance for what constitutes an effective rapid re-housing program. Applicants should familiarize themselves with the Homelessness Prevention and Rapid Re-housing Best Practice Standards found at: https://www.va.gov/homeless/ssvf/ssvf-education/.

B. Funding Priorities: This NOFA will provide non-recurring 4-year awards designed to supplement existing services and financial assistance for existing rapid re-housing programs. This will support SSVF's principal goal to provide support to those applicants who demonstrate the greatest capacity to end homelessness among veterans or sustain the gains made in ending homelessness among veterans, in communities that have already met U.S. Interagency Council on Homelessness (USICH) Federal Criteria and Benchmarks.

C. Definitions: 38 CFR part 62 contains definitions of terms used in the SSVF Program. In addition to the definitions and requirements described in 38 CFR part 62, this NOFA provides further clarification in this paragraph on the use of Fees and Move-In Costs. Fees and Move-In Costs may be provided by the SSVF grantee under 38 CFR 62.34(g) to assist veterans in remaining in or obtaining permanent housing. Grantees will be allowed to provide up to the equivalent of 2 months' rent to landlords under 38 CFR 62.34(g) as a fee for any lease of not less than 1 year when necessary to assist a veteran in remaining in or obtaining permanent housing. An example of such a fee could include a landlord incentive to facilitate leasing of rental units to high-risk tenants. Landlords are less likely to lease to certain groups due to the risk of non-payment of rent or concerns about damage or disruption to their buildings. High-risk tenants might include veterans with poor credit histories and background checks that might otherwise disqualify them from obtaining a lease. Veterans with histories of sex offenses are also generally considered a high-risk tenant by landlords.

Veterans are sometimes reluctant to move into apartments that do not offer any of the comforts typically associated with living independently. The General Housing Stability Assistance, provided under 38 CFR 62.34(e), while offering some funds for bedding and basic kitchen supplies, leaves significant needs unaddressed. Therefore, grantees will also be allowed to provide up to $1,000 for miscellaneous move-in expenses under 38 CFR 62.34(g) for the veteran's family to help obtain permanent housing with a lease of not less than 1 year. These funds are to be provided to assist veterans through accounts established at local merchants, such as grocery stores and retailers, in the enrolled veteran's name. These items could include food, furniture, household items, electronics (including televisions) or other items typically associated with independent living in permanent housing.

D. Approach: This application opportunity is open only to existing SSVF grantees. Communities included in Table 1 have been identified as facing significant challenges in placing veterans in permanent housing and as a result these communities have high numbers of unused U.S. Department of Housing and Urban Development VA Supportive Housing (HUD-VASH) vouchers. This NOFA is designed to help increase utilization of those vouchers. Greater efforts are needed to recruit landlords and expand the pool of affordable housing if VA is to advance towards the goal of ending homelessness among veterans. Through this NOFA, grantees can pay fees related to securing a lease of at least 1 year. In addition, as noted above, veterans are sometimes reluctant to move into apartments that do not offer any of the comforts typically associated with living independently. Pursuant to this NOFA, grantees would be able to use funds for miscellaneous expenses associated with moving into a new home. Moreover, SSVF grantees have proven to be effective housing navigators. VA believes that making these services available to more HUD-VASH eligible participants will enhance the use of existing HUD-VASH vouchers. As a result, VA is invoking the provision in 38 U.S.C. 2044(f)(6)(C) and 38 CFR 62.2, allowing VA to establish an income ceiling higher or lower than 50% of the median income for an area if VA determines that such variations are necessary because the area has unusually high or low construction costs, fair market rents (as determined under section 8 of the United States Housing Act of 1937 (42 U.S.C. 1437f)) or family incomes. The communities in Table 1 have been identified as having unusually high fair market rents or low family incomes. For purposes of this NOFA, grantees will be able to serve veterans in the communities included in Table 1 who have up to 80% of the area median income. As HUD-VASH eligibility has an income limit of 80% of medium income, aligning SSVF and HUD-VASH eligibility will allow SSVF grantees' housing navigators to assist all Veterans eligible for HUD-VASH in these target communities identify and obtain permanent housing.

E. Authority: Funding available under this NOFA is authorized by 38 U.S.C. 2044. VA implements the SSVF Program through regulations in 38 CFR part 62. Funds made available under this NOFA are subject to the requirements of these regulations.

F. Requirements for the Use of Supportive Services Grant Funds: The applicant's request for funding must be consistent with the limitations and uses of supportive services grant funds set forth in 38 CFR part 62 and this NOFA. In accordance with the regulations and this NOFA, the following requirements apply to supportive services grants awarded under this NOFA:

1. Grantees may use a maximum of 10% of supportive services grant funds for administrative costs identified in 38 CFR 62.70(e).

2. Grantees must use a minimum of 80% of the temporary financial assistance portion of their supportive services grant funds to serve very low-income veteran families who qualify under 38 CFR 62.11(b).

G. Guidance for the Use of Supportive Services Grant Funds: Grantees are expected to demonstrate adoption of evidence-based practices most likely to lead to reductions in homelessness or maintain gains that have been made in ending homelessness among veterans in communities that have successfully ended homelessness among veterans as defined by the USICH's Federal Criteria and Benchmarks.

SSVF follows the principles of Housing First and grantees are to prioritize the placement of veterans into permanent housing without pre-condition. However, Housing First does not mean housing only. Grantees must develop plans that will ensure that veteran participants have the level of income and economic stability needed to remain in permanent housing after the conclusion of SSVF intervention. Both employment and benefits assistance from VA and non-VA sources represent a significant underutilized source of income stability for homeless veterans. Case management should include income maximization strategies to ensure households have access to benefits, employment and financial counseling. The complexity of program rules and the stigma some associate with entitlement programs contribute to their lack of use. For this reason, grantees are encouraged to consider strategies that can lead to prompt and successful access to employment and benefits that are essential to retaining housing. Consistent with 38 CFR 62.30-62.34, grantees are expected to offer the following supportive services: counseling participants about housing; assisting participants in understanding leases; securing utilities; making moving arrangements; providing representative payee services concerning rent and utilities when needed; using health care navigation services to help participants access health and mental health care; providing legal services; and providing mediation and outreach to property owners related to locating or retaining housing. Grantees may also assist participants by providing rental assistance, security or utility deposits, moving costs, emergency housing or general housing stability assistance; or using other Federal resources, such as the HUD Emergency Solutions Grants Program, or supportive services grant funds subject to the limitations described in 38 CFR 62.34. The focus of this non-recurring grant is:

1. The augmentation of housing navigation services to veterans with HUD-VASH vouchers;

2. To provide up to $1,000 supplemental assistance to every veteran household who obtains a lease of not less than 1-year to cover miscellaneous move-in expenses; and

3. To pay landlords up to an amount equal to 2 months' rent for fees related to securing a lease of at least 1 year.

II. Award Information

A. Overview: This NOFA announces the availability of funds for supportive services grants under the SSVF Program and is open only to existing grantees. This NOFA's awards will extend through September 30, 2026. Existing grantees are SSVF grantees that have a Memorandum of Agreement (MOA) for operations through September 30, 2023. If this existing grant is not renewed, awards made under this NOFA will be discontinued.

B. Funding: Only existing SSVF grantees are eligible to apply.

C. Areas of Consideration: Applicants can apply for funding only in the areas they currently serve with existing rapid re-housing services. The eligible communities for this NOFA are limited to communities served by VA medical centers (VAMC) listed in Table 1 below.

Table 1—Areas Eligible for Funding
Veterans integrated service network (VISN) | Parent facility VAMC name (formal name)
1 | (V01) (689) Connecticut Health Care System (HCS).
1 | (V01) (523) Boston, MA HCS.
1 | (V01) (631) Central Western Massachusetts HCS.
1 | (V01) (650) Providence, RI HCS.
1 | (V01) (518) Bedford, MA HCS.
2 | (V02) (630) New York Harbor HCS.
2 | (V02) (561) New Jersey HCS.
2 | (V02) (526) Bronx, NY HCS.
4 | (V04) (642) Philadelphia, PA HCS.
4 | (V04) (542) Coatesville, PA HCS.
5 | (V05) (688) Washington, DC HCS.
5 | (V05) (512) Baltimore, MD HCS.
6 | (V06) (659) Salisbury, NC HCS.
6 | (V06) (590) Hampton, VA HCS.
6 | (V06) (558) Durham, NC HCS.
7 | (V07) (508) Atlanta, GA HCS.
7 | (V07) (534) Charleston, SC HCS.
7 | (V07) (544) Columbia, SC HCS.
8 | (V08) (573) Gainesville, FL HCS.
VISN—Parent Facility VAMC Name (Formal Name).
8 | (V08) (546) Miami, FL HCS.
8 | (V08) (516) Bay Pines, FL HCS.
8 | (V08) (675) Orlando, FL HCS.
8 | (V08) (673) Tampa, FL HCS.
8 | (V08) (548) West Palm Beach, FL HCS.
9 | (V09) (626) Middle Tennessee HCS.
9 | (V09) (621) Mountain Home, TN HCS.
10 | (V10) (541) Cleveland, OH HCS.
10 | (V10) (553) Detroit, MI HCS.
10 | (V10) (515) Battle Creek, MI HCS.
10 | (V10) (539) Cincinnati, OH HCS.
10 | (V10) (583) Indianapolis, IN HCS.
10 | (V10) (506) Ann Arbor, MI HCS.
12 | (V12) (537) Chicago, IL HCS.
12 | (V12) (695) Milwaukee, WI HCS.
12 | (V12) (578) Hines, IL HCS.
16 | (V16) (580) Houston, TX HCS.
16 | (V16) (629) New Orleans, LA HCS.
16 | (V16) (520) Gulf Coast, MS HCS.
16 | (V16) (586) Jackson, MS HCS.
16 | (V16) (667) Shreveport, LA HCS.
17 | (V17) (674) Temple, TX HCS.
17 | (V17) (549) Dallas, TX HCS.
17 | (V17) (671) San Antonio, TX HCS.
19 | (V19) (554) Aurora, CO HCS.
19 | (V19) (623) Muskogee, OK HCS.
19 | (V19) (660) Salt Lake City, UT HCS.
19 | (V19) (635) Oklahoma City, OK HCS.
19 | (V19) (436) Montana HCS.
20 | (V20) (663) Puget Sound, WA HCS.
20 | (V20) (648) Portland, OR HCS.
20 | (V20) (668) Spokane, WA HCS.
20 | (V20) (687) Walla Walla, WA HCS.
20 | (V20) (692) White City, OR HCS.
20 | (V20) (463) Anchorage, AK HCS.
21 | (V21) (640) Palo Alto, CA HCS.
21 | (V21) (612A4) N. California HCS.
VAMC—Parent Facility VAMC Name (Formal Name).
21 | (V21) (662) San Francisco, CA HCS.
21 | (V21) (570) Fresno, CA HCS.
21 | (V21) (593) Las Vegas, NV HCS.
21 | (V21) (459) Honolulu, HI HCS.
21 | (V21) (654) Reno, NV HCS.
22 | (V22) (691) Greater Los Angeles, CA HCS.
22 | (V22) (664) San Diego, CA HCS.
22 | (V22) (605) Loma Linda, CA HCS.
22 | (V22) (600) Long Beach, CA HCS.
22 | (V22) (644) Phoenix, AZ HCS.
22 | (V22) (678) Southern Arizona HCS.
22 | (V22) (501) New Mexico HCS.
23 | (V23) (618) Minneapolis, MN HCS.

D. Allocation of Funds: Funding will be awarded under this NOFA to existing grantees for a 4-year non-recurring period beginning August 19 2022. The following requirements apply to supportive services grants awarded under this NOFA:

1. In response to this NOFA, only existing SSVF grantees may apply.

2. The applicant's funding request for fiscal years (FY) 2023-2026 operations cannot exceed the amount indicated in their current MOA. The requested funds are expected to support 4 years of operations, so 25% of the award funds will be expected to be available in each year of operations.

3. If, during the course of the grant year, VA determines that grantee spending is not meeting the minimum percentage milestones below, VA may elect to recoup projected unused funds and reprogram such funds to provide supportive services in areas with higher need. Should VA elect to recoup unspent funds, reductions in available grant funds would take place the first business day following the end of the quarter. VA may elect to recoup funds under the following circumstances:

(a) By the end of FY 2023 (September 30, 2023) of the grantee's supportive services annualized grant award period, the grantee's cumulative requests for supportive services grant funds are less than an amount equal to 15% of total supportive services grant award. (During this same period, the grantee's cumulative requests for supportive services grant funds may not exceed 35% of the total supportive services grant award.).

(b) By the end of FY 2024 (September 30, 2024) of the grantee's supportive services annualized grant award period, the grantee's cumulative requests for supportive services grant funds are less than an amount equal to 40% of total supportive services grant award. (During this same period, the grantee's cumulative requests for supportive services grant funds may not exceed 60% of the total supportive services grant award.)

(c) By the end of FY 2025 (September 30, 2025) of the grantee's supportive services annualized grant award period, the grantee's cumulative requests for supportive services grant funds are less than an amount equal to 65% of total supportive services grant award. (During this same period, the grantee's cumulative requests for supportive services grant funds may not exceed 80% of the total supportive services grant award.).

4. Should additional funding become available over the course of the grant term from funds recouped under the Award Information section of this Notice, funds that are voluntarily returned by grantees, funds that become available due to a grant termination, or other funds still available for grant awards, VA may elect to offer these funds to grantees in areas where demand has exceeded available SSVF resources. Additional funds will be provided first to the highest scoring grantee in the selected area who is in compliance with their grant agreement and has the capacity to utilize the additional funds.

E. Supportive Services Grant Award Period: Grants are made for a non-recurring 4-year period.

III. Eligibility Information

A. Eligible Applicants: Only existing SSVF grantees may apply. Eligible locations are restricted to those listed in Table 1. Grantees can only apply for funds in areas they currently serve.

B. Cost Sharing or Matching: None.

IV. Application and Submission Information

A. Obtaining an Application Package: Only existing SSVF grantees currently serving an area designated in Table 1 are eligible to apply. Applications only require a letter of intent and a budget. These letters of intent and budget forms are located at www.va.gov/homeless/ssvf. Any questions regarding this process should be referred to the SSVF Program Office at SSVF@va.gov. For detailed SSVF Program information and requirements, see 38 CFR part 62.

B. Content and Form of Application: Applicants must submit applications electronically following instructions found at www.va.gov/homeless/ssvf.

C. Submission Dates and Times: Applications for supportive services grants under the SSVF Program must be received by the SSVF Program Office by 4:00 p.m. (EST) on July 22 2022. Awards made for supportive services grants will fund operations beginning August 19, 2022. Applications must arrive as a complete package. Materials arriving separately will not be included in the application package for consideration and may result in the application being rejected. Additionally, in the interest of fairness to all competing applicants, this deadline is firm as to date and hour, and VA will treat as ineligible for consideration any application that is received after the deadline. Applicants should take this practice into account and make early submission of their materials to avoid any risk of loss of eligibility brought about by unanticipated delays, computer service outages, or other delivery-related problems.

D. Funding Restrictions: Funding will be awarded for supportive services grants under this NOFA depending on funding availability. Applicants should submit separate applications for each supportive services funding request.

1. Funding used for staff education and training cannot exceed 1% of the overall program grant award. This limitation does not include the cost to attend VA mandated training. All training costs must be directly related to the provision of services to homeless veterans and their families.

V. Application Review Information

A. Criteria: Only existing SSVF grantees serving the areas (as identified in their MOA for SSVF services through September 30, 2023) listed in Table 1 are eligible to apply. VA will select eligible applicants that meet the threshold requirements described in 38 CFR 62.21.

B. Review and Selection Process: VA will review all supportive services grant applications in response to this NOFA according to the following steps:

1. Should available funding not be sufficient to fully fund all requests, VA may either fund only selected awards based on its determination of highest need (based on latest HUD point-in-time data and lowest HUD-VASH voucher utilization) or grant awards will be made proportionally, with each grantee receiving the same percentage of their award request up to the amount of available funding.

2. Conversely, should additional funds become available, grant awards will be increased proportionally with each grantee receiving the same percentage increase to their award funding.

3. VA will also utilize the following considerations in 38 CFR 62.23(d) to select applicants for funding:

(a) VA will give preference to applicants that provide, or coordinate the provision of, supportive services for very low-income veteran families transitioning from homelessness to permanent housing; and

(b) To the extent practicable, VA will ensure that supportive services grants are equitably distributed across the areas identified in Table 1.

VI. Award Administration Information

A. Award Notices: Although subject to change, the SSVF Program Office expects to announce grant recipients for all applicants in the fourth quarter of FY 2022 with grants beginning August 19, 2022. Prior to executing a funding agreement, VA will contact the applicants, make known the finalized amount of proposed funding and verify that the applicant would still like the funding. Once VA verifies that the applicant is still seeking funding, VA will execute an agreement and make payments to the grant recipient in accordance with 38 CFR part 62 and this NOFA.

B. Administrative and National Policy Requirements: As SSVF grants cannot be used to fund treatment for mental health or substance use disorders, applicants must provide evidence that they can provide access to such services to all program participants through formal and informal agreements with community providers.

C. Reporting: VA places great emphasis on the responsibility and accountability of grantees. As described in 38 CFR 62.63 and 62.71, VA has procedures in place to monitor supportive services provided to participants and outcomes associated with the supportive services provided under the SSVF Program. Applicants should be aware of the following:

1. Upon execution of a supportive services grant agreement with VA, grantees will have a VA regional coordinator assigned by the SSVF Program Office who will provide oversight and monitor supportive services provided to participants. The regional coordinator assigned will be the same regional coordinator currently assigned to the applicant's FY 2023 MOA associated with this application.

2. Grantees will be required to enter data into a Homeless Management Information System (HMIS) web-based software application. This data will consist of information on the participants served and types of supportive services provided by grantees. Grantees must treat the data for activities funded by the SSVF Program separate from that of activities funded by other programs. Grantees will be required to work with their HMIS Administrators to export client-level data for activities funded by the SSVF Program to VA on at least a monthly basis. The completeness and quality of grantee uploads into HMIS will be factored into the evaluation of their grant performance.

3. VA will complete annual monitoring evaluations of each grantee. Monitoring will also include the submittal of quarterly and annual financial and performance reports by the grantee. The grantee will be expected to demonstrate adherence to the grantee's proposed program, as described in the grantee's application. All grantees are subject to audits conducted by VA or its representative.

4. Grantees will be assessed based on their ability to meet critical performance measures. In addition to meeting program requirements defined by the regulations and applicable NOFA(s), grantees will be assessed on their ability to place participants into housing and the housing retention rates of participants served. Higher placement for homeless participants and higher housing retention rates for at-risk participants are expected for very low-income veteran families when compared to extremely low-income veteran families with incomes below 30% of the area median income.

5. Grantees' performance will be assessed based on their consumer satisfaction scores. These scores include the participation rates and results of both the standardized survey offered to all participant households and unannounced visits to assess screening and intake procedures (commonly known as a mystery shopper program).

VA Goals and Objectives for Funds Awarded Under this NOFA: VA seeks to accelerate the pace of permanent housing placements in high-need areas through this NOFA in pursuit of the Secretary's goal of placing 38,000 homeless veterans in permanent housing by the end of 2022. This NOFA provides new tools to support permanent housing placements by expanding the stock of available housing in communities that have currently have severely constrained affordable housing options.

VII. Other Information

A. Payments of Supportive Services Grant Funds: Grantees will receive payments electronically through the U.S. Department of Health and Human Services' Payment Management System. Grantees will have the ability to request payments as frequently as they choose subject to the following limitations:

1. During the first year of the grantee's supportive services annualized grant award period, the grantee's cumulative requests for supportive services grant funds may not exceed 35% of the total supportive services grant award without written approval by VA.

2. By the end of the second year of the grantee's supportive services annualized grant award period, the grantee's cumulative requests for supportive services grant funds may not exceed 60% of the total supportive services grant award without written approval by VA.

3. By the end of the third year of the grantee's supportive services annualized grant award period, the grantee's cumulative requests for supportive services grant funds may not exceed 80% of the total supportive services grant award without written approval by VA.

4. By the end of the fourth year of the grantee's supportive services annualized grant award period, the grantee's cumulative requests for supportive services grant funds may not exceed 100% of the total supportive services grant award.

Signing Authority

Denis McDonough, Secretary of Veterans Affairs, approved this document on June 17, 2022, and authorized the undersigned to sign and submit the document to the Office of the Federal Register for publication electronically as an official document of the Department of Veterans Affairs.

Luvenia Potts,
Regulation Development Coordinator, Office of Regulation Policy & Management, Office of General Counsel, Department of Veterans Affairs.

[FR Doc. 2022-13505 Filed 6-23-22; 8:45 am]

BILLING CODE 8320-01-P